SECURITIES AND EXCHANGE COMMISSION

[Release No. 34-88459; File No. SR-CBOE-2020-010]

Self-Regulatory Organizations; Cboe Exchange, Inc.; Notice of Withdrawal of Proposed Rule Change To Adopt Flexible Exchange Options (“FLEX Options”) With a Contract Multiplier of One (“FLEX Micro Options”)

March 23, 2020.

On February 4, 2020, Cboe Exchange, Inc. (“Exchange”) filed with the Securities and Exchange Commission (“Commission”), pursuant to Section 19(b)(1) of the Securities Exchange Act of 1934 (“Exchange Act”) ¹ and Rule 19b-4 thereunder,² a proposed rule change to adopt flexible exchange options (“FLEX options”) with a contract multiplier of one (“FLEX Micro Options”).

¹ 15 U.S.C. 78s(b)(1).

² 17 CFR 240.19b-4.

The proposed rule change was published for comment in the Federal Register on February 24, 2020.³ The Commission has received no comments on the proposed rule change. On March 11, 2020, the Exchange withdrew the proposed rule change (SR-CBOE-2020-010).

³ See Securities Exchange Act Release No. 88232 (Feb. 18, 2020), 85 FR 10491.

For the Commission, by the Division of Trading and Markets, pursuant to delegated authority.⁴
⁴ 17 CFR 200.30-3(a)(12).
J. Matthew DeLesDernier,
Assistant Secretary.

[FR Doc. 2020-06391 Filed 3-25-20; 8:45 am]

BILLING CODE 8011-01-P